DEPARTMENT OF THE INTERIOR

Bureau of Land Management

[BLM_NM_FRN_MO#4500172085; NMNM-145860]

Notice of Proposed Withdrawal and Opportunity for Public Meeting, Red Rock Wildlife Area, New Mexico

AGENCY: Bureau of Land Management, Interior.

ACTION: Notice.

SUMMARY: On behalf of the Bureau of Land Management (BLM), the Secretary of the Interior proposes to withdraw 312.16 acres of public lands and 400 acres of Federal mineral interest underlying non-Federal surface from location and entry under the United States mining laws, but not from leasing under the mineral and geothermal leasing laws, to protect desert bighorn sheep habitat within the Red Rock Wildlife Area, for a period of 50 years, subject to valid existing rights. Publication of this notice segregates the lands for up to two years from location and entry under the United States mining laws, subject to valid existing rights, but not from leasing under the mineral and geothermal leasing laws, while the application is being processed. This notice initiates a 90-day public comment period and announces the opportunity to request a public meeting on the proposed withdrawal.

DATES: Comments and requests for a public meeting must be received by March 5, 2024.

ADDRESSES: Comments and meeting requests should be sent to the Bureau of Land Management (BLM), Attn: David McCarthy, BLM Las Cruces District Office, 1800 Marquess St., Las Cruces, NM 88005.

FOR FURTHER INFORMATION CONTACT: David McCarthy, Realty Specialist, BLM Las Cruces District Office, at 575-525-4314, by email at mccarthy@blm.gov or at the address noted above. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The BLM has filed a petition/application requesting the Secretary of the Interior to withdraw the following described public lands and Federal mineral interest underlying non-Federal surface from location and entry under the United States mining laws subject to valid existing rights, but not from leasing under the mineral and geothermal leasing laws, for a period of 50 years:

New Mexico Principal Meridian

Public Lands

T. 18 S., R. 18 W.,

Sec. 9, Lots 1 thru 4, S½NE¼SW¼, S½NW¼SE¼, and SE¼SE¼;

Sec. 16, Lots 1 thru 5.

The area described contains 312.16 acres.

Federal Mineral Interest Underlying Non-Federal Surface

T. 18 S., R. 18 W.,

Sec. 15, NW¼NW¼ and W½SW¼;

Sec. 16, NW¼SE¼;

Sec. 21, NE¼NE¼, W½NE¼, and W½NW¼;

Sec. 22, NW¼NW¼.

The areas described aggregate 400 acres.

The total areas described aggregate 712.16 acres.

The Secretary of the Interior has approved the petition to file a withdrawal application. The Secretary's approval constitutes her proposal to withdraw and segregate the subject lands (43 CFR 2310.1-3e).

The use of a right-of-way, interagency agreement, cooperative agreement, or surface management under 43 CFR subpart 3809 regulations would not adequately constrain non-discretionary uses and would not provide adequate protection for the resource values on these lands.

There are no suitable alternative sites available.

No water is necessary to fulfill the purpose of the withdrawal application. Records relating to this withdrawal application may be examined by contacting the BLM at the above address and phone number.

For a period until March 5, 2024, persons who wish to provide comments or request a public meeting for the withdrawal application must submit those in writing to the contact listed in the ADDRESSES section above. If the authorized officer determines that a public meeting will be held, a notice of the date, time, and place will be published in the Federal Register, local newspaper, and on the BLM website at www.blm.gov at least 30 days before the scheduled date of the meeting.

Before including your address, phone number, email address, or other personal identifying information in your comment, you should be aware that your entire comment—including your personal identifying information—may be made publicly available at any time. While you may ask the BLM in your comment to withhold your personal identifying information from public review, we cannot guarantee that we will be able to do so.

For a period until December 6, 2025, subject to valid existing rights, the BLM lands described in this notice will be segregated from location and entry under the United States mining laws, but not from leasing under the mineral and geothermal leasing laws, while the withdrawal application is being processed, unless the application is denied, canceled, or the withdrawal is approved prior to that date.

The public lands described in this notice would remain open to such forms of disposition as may be allowed by law on the public lands. Licenses, permits, cooperative agreements, or discretionary land use authorizations of a temporary nature and which would not significantly impact the values to be protected by the requested withdrawal may be allowed with the approval of the authorized officer during the temporary segregation period.

This withdrawal application will be processed in accordance with the regulations set-forth at 43 CFR 2300.

(Authority: 43 U.S.C. 1714)

Melanie G. Barnes,
State Director, New Mexico.

[FR Doc. 2023-26756 Filed 12-5-23; 8:45 am]

BILLING CODE 4331-23-P